SMALL BUSINESS ADMINISTRATION

[Disaster Declaration #10178 and #10179]

Mississippi Disaster Number MS-00005

AGENCY: U.S. Small Business Administration.

ACTION: Amendment 1.

SUMMARY: This is an amendment of the Presidential declaration of a major disaster for the State of Mississippi (FEMA-1604-DR), dated 8/29/2005.

Incident: Hurricane Katrina.

Incident Period: 8/29/2005 and continuing.

Effective Date: 9/6/2005.

Physical Loan Application Deadline Date: 10/28/2005.

EIDL Loan Application Deadline Date: 5/29/2006.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Mississippi, dated 8/29/2005, is hereby amended to include the following areas as adversely affected by the disaster:

Primary Counties

ADAMS

ATTALA

CLAIBORNE

CHOCTAW

CLARKE

COPIAH

COVINGTON

FRANKLIN

HINDS

JASPER

JEFFERSON

JEFFERSON DAVIS

JONES

KEMPER

LAUDERDALE

LAWRENCE

LEAKE

LINCOLN

LOWNDES

MADISON

NESHOBA

NEWTON

NOXUBEE

OKTIBBEHA

RANKIN

SCOTT

SIMPSON

SMITH

WARREN

WAYNE

WINSTON

YAZOO

Contiguous Counties

MISSISSIPPI

CARROLL

CLAY

HOLMES

HUMPHREYS

ISSAQUENA

MONROE

MONTGOMERY

SHARKEY

WEBSTER

ALABAMA

CHOCTAW

LAMAR

PICKENS

SUMTER

LOUISIANA

EAST CARROLL

MADISON

TENSAS

All other information in the original declaration remains unchanged.

(Catalog of Federal Domestic Assistance Numbers 59002 and 59008)

Cheri L. Cannon,
Acting Associate Administrator for Disaster Assistance.

[FR Doc. 05-18201 Filed 9-13-05; 8:45 am]

BILLING CODE 8025-01-P